SECURITIES AND EXCHANGE COMMISSION

[File No. 1-00905]

Self-Regulatory Organizations; Notice of Application To Strike From Listing and Registration; The Philadelphia Stock Exchange, Inc. (PPL Electric Utilities, $3.35%, $4.40%, $4.50% and $4.60% Series Preferred Stock, no par value)

January 10, 2003.

PPL Electric Utilities, a Pennsylvania Corporation, (“Issuer”) has filed an application with the Securities and Exchange Commission (“Commission”), pursuant to section 12(d) of the Securities Exchange Act of 1934 (“Act”),¹ and Rule 12d2-2(d) thereunder,² to withdraw the $3.35%, $4.40%, $4.50% and $4.60% Series Preferred Stock, no par value (“Securities”), from listing and registration on the Philadelphia Stock Exchange, Inc. (“PHLX” or “Exchange”).

¹ 15 U.S.C. 78L(d).

² 17 CFR 240.12d2-2(c).

The Issuer stated in its application that it has complied with the rules of the PHLX that govern the removal of securities from listing and registration on the Exchange.

In making the decision to withdraw its Security from listing on the Exchange, the Issuer states that the Securities no longer meet the PHLX's minimum listing criteria of 250,000 shares. In addition, the Issuer states that its 4.50% and 4.40% Securities are currently listed on the New York Stock Exchange, Inc. (“NYSE”).

The Issuer's application relates solely to the withdrawal of the Securities from listing and registration on the PHLX and shall have no effect upon its continued listing and registration on the NYSE under section 12(b).³

³ 15 U.S.C. 78L(b).

Any interested person may, on or before February 3, 2003, submit by letter to the Secretary of the Securities and Exchange Commission, 450 Fifth Street, NW., Washington, DC 20549-0609, facts bearing upon whether the application has been made in accordance with the rules of the PHLX and what terms, if any, should be imposed by the Commission for the protection of investors. The Commission, based on the information submitted to it, will issue an order granting the application after the date mentioned above, unless the Commission determines to order a hearing on the matter.

For the Commission, by the Division of Market Regulation, pursuant to delegated authority. ⁴
⁴ 17 CFR 200.30-3(a)(1).
Jonathan G. Katz,
Secretary.

[FR Doc. 03-953 Filed 1-15-03; 8:45 am]

BILLING CODE 8010-01-P